DEPARTMENT OF LABOR

Employment and Training Administration

[TA-W-56,634]

KOPIN Corporation, Taunton, MA; Notice of Termination of Investigation

Pursuant to section 221 of the Trade Act of 1974, as amended, an investigation was initiated on February 25, 2005 in response to a petition filed by a company official on behalf of workers of KOPIN Corporation, Taunton, Massachusetts.

The petition regarding the investigation has been deemed invalid. Consequently, the investigation has been terminated. Moreover, the petitioner has been contacted. A new petition was submitted recently and shall be instituted.

Signed at Washington, DC, this 3rd day of March, 2005.
Elliott S. Kushner,
Certifying Officer, Division of Trade Adjustment Assistance.

[FR Doc. E5-1237 Filed 3-21-05; 8:45 am]

BILLING CODE 4510-30-P